DEPARTMENT OF TRANSPORTATION

Federal Aviation Administration

14 CFR Parts 21, 91, 121, 125, and 129

[Docket No. FAA-1999-6411; Amendment Nos. 21-83, 91-277, 121-295, 125-40, 129-35; Special Federal Aviation Regulation No. 88]

RIN 2120-AG62

Extension of Compliance Times for Fuel Tank System Safety Assessments, Correction; Correction

AGENCY: Federal Aviation Administration (FAA), DOT.

ACTION: Final rule; correction.

SUMMARY: This document makes a correction to the correction of the final rule published in the Federal Register on June 25, 2003. The first correction changed assigned amendment numbers. This action makes further corrections to assigned amendment numbers.

EFFECTIVE DATE: This correction is effective on February 11, 2004.

FOR FURTHER INFORMATION CONTACT: Mike Dosert, telephone (425) 227-2132.

Correction

In correction to the final rule FR Doc. 03-16001, published on June 25, 2003 (68 FR 37735), make the following corrections:

1. On page 37735, at the bottom of column 2, in the heading section, beginning on line 4, correct “Amendment. Nos. 21-83, 91-272, 121-285, 125-40, 129-35; Special Federal Aviation Regulation No. 88” to read “Amendment. Nos. 21-83, 91-277, 121-295, 125-40, 129-35; Special Federal Aviation Regulation No. 88”.

Donald P. Byrne,
Assistant Chief Counsel for Regulations.

[FR Doc. 04-2878 Filed 2-10-04; 8:45 am]

BILLING CODE 4910-13-P